DEPARTMENT OF HOMELAND SECURITY

U.S. Customs and Border Protection

[CBP Dec. No. 16-09]

Expansion of Global Entry Eligibility to All Citizens of the United Kingdom

AGENCY: U.S. Customs and Border Protection; Department of Homeland Security.

ACTION: General notice.

SUMMARY: U.S. Customs and Border Protection (CBP) has established the Global Entry international trusted traveler program at most major U.S. airports. Global Entry allows pre-approved participants dedicated CBP processing into the United States using Global Entry kiosks located at designated airports. In 2013, CBP announced a limited pilot program through which certain British citizens were eligible to apply for participation in the Global Entry program. This document announces that CBP is concluding the pilot and expanding eligibility in the Global Entry program to include all British citizens with a valid United Kingdom passport documenting their British citizenship. Additionally, this document announces that certain U.S. citizens may apply for membership in Registered Traveller, the United Kingdom's registered traveler program.

DATES: Global Entry eligibility will be expanded to British citizens on July 12, 2016. Applications will be accepted beginning July 12, 2016.

FOR FURTHER INFORMATION CONTACT: Garret A. Conover, Office of Field Operations, (202) 325-4062, Garret.A.Conover@cbp.dhs.gov.

SUPPLEMENTARY INFORMATION:

Background

Global Entry Program

Global Entry is a voluntary program that allows for dedicated CBP processing of pre-approved travelers arriving in the United States at Global Entry kiosks located at designated airports. In a final rule published in the Federal Register (77 FR 5681) on February 6, 2012, CBP promulgated the regulation (8 CFR 235.12) to establish Global Entry as an ongoing voluntary regulatory program. Section 235.12 contains a description of the program, the eligibility criteria, the application and enrollment process, and redress procedures. Travelers who wish to participate in Global Entry must apply via the Global On-Line Enrollment System (GOES) Web site, https://goes-app.cbp.dhs.gov, and pay the applicable fee. Applications for Global Entry must be completed and submitted electronically. The list of airports with Global Entry kiosks is available at http://www.globalentry.gov.

Eligibility for participation in Global Entry is limited to U.S. citizens, U.S. nationals, U.S. lawful permanent residents, and certain nonimmigrant aliens from countries that have entered into arrangements with CBP regarding international trusted traveler programs. Specifically, certain nonimmigrant aliens from countries that have entered into arrangements with CBP concerning international trusted traveler programs may be eligible to apply for participation in Global Entry after CBP announces the arrangement by publication of a notice in the Federal Register. The notice will include the country, the scope of eligibility of nonimmigrant aliens from that country (e.g., whether only citizens of the foreign country or citizens and non-citizens are eligible) and other conditions that may apply based on the terms of the arrangement. See 8 CFR 235.12(b)(1)(ii). In the preamble of the Global Entry final rule, CBP recognized the existence of previous arrangements it had with Mexico and the Netherlands regarding the international trusted traveler programs and announced that Mexican nationals and certain citizens of the Netherlands were eligible to apply for the Global Entry program. CBP further specified that Mexican nationals and citizens of the Netherlands who were existing participants in the Global Entry pilot would be automatically enrolled in the ongoing Global Entry program. CBP also stated that pursuant to a previous Federal Register notice,¹ participants in NEXUS and certain participants in SENTRI would still be allowed to use the Global Entry kiosks.

¹ See the Utilization of Global Entry Kiosks by NEXUS and SENTRI Participants Federal Register notice, December 29, 2010 (75 FR 82202) for further information.

In a notice published in the Federal Register (78 FR 48706) on August 9, 2013, CBP expanded Global Entry eligibility to include citizens of the Republic of Korea who are participants in the Smart Entry System (SES), a trusted traveler program for pre-approved, low-risk travelers at designated airports in the Republic of Korea and a limited number of citizens of the State of Qatar. In the notice, CBP also announced a Global Entry pilot for a limited number of German citizens who participated in ABG Plus, Germany's former trusted traveler program.

In a notice published in the Federal Register (81 FR 7822) on February 16, 2016, CBP announced the conclusion of the limited pilot for German citizens and the expansion of Global Entry eligibility to include all German citizens. Additionally, this notice announced that certain U.S. citizens may apply for membership in EasyPASS, Germany's registered traveler program.

In a notice published in the Federal Register (80 FR 1509) on January 12, 2015, CBP expanded Global Entry eligibility to include citizens of the Republic of Panama. Additionally, the notice announced that U.S. citizens who participate in Global Entry or U.S. citizens who can utilize Global Entry kiosks as NEXUS or SENTRI participants have the option to apply for membership in Panama Global Pass, the Republic of Panama's trusted traveler program.

Limited Global Entry Pilot for Certain Citizens of the United Kingdom

In the August 9, 2013 notice referenced in the previous section, CBP also announced a limited Global Entry pilot program allowing a limited number of British citizens who frequently travel to the United States to apply for participation in Global Entry. During this limited pilot, certain British citizens who were identified as potential participants in the pilot program, received a promotional code from a British airline carrier, the U.S. Embassy, or CBP to use during the application process. These applicants were required to obtain a police certificate to be presented to a CBP officer at the time of the Global Entry interview to demonstrate that they had no criminal history. The United States and the United Kingdom limited the number of British citizens who could apply for Global Entry to allow for the development of the program's infrastructure. The notice stated that CBP expected to be able to expand eligibility to include all British citizens in the near future and that such an expansion would be announced by notice in the Federal Register and on http://www.globalentry.gov.

Expansion of Global Entry Program To Include All Citizens of the United Kingdom

This document announces that pursuant to the Joint Declaration signed by the U.S. Department of Homeland Security, CBP, and the United Kingdom Home Office, United Kingdom Border Agency of Great Britain and Northern Ireland (United Kingdom Border Agency) on June 24, 2008, CBP is expanding Global Entry eligibility to include all British citizens in accordance with the terms and conditions set forth below. As a result, CBP is concluding the limited pilot program. All pilot participants will continue their Global Entry membership for the initial five-year membership period. If pilot participants want to renew their membership when their initial Global Entry membership expires, the renewal will be subject to the terms and conditions set forth below.

Any British citizen with a valid United Kingdom passport documenting his or her British citizenship may apply for Global Entry. The terms “citizens of the United Kingdom” as used in the Joint Statement and “British citizen” as used in this notice refer to citizens of England, Northern Ireland, Scotland, and Wales.

Before a British citizen can apply for Global Entry, he or she must first register to apply through the United Kingdom Home Office Web site, www.gov.uk. The United Kingdom charges a non-refundable £42 processing fee for registering to apply for Global Entry. This processing fee is collected by the United Kingdom to process the applicant's background check. After the applicant is thoroughly vetted for Global Entry by the United Kingdom Border Agency, the applicant will receive a UK Access Code from the United Kingdom to use to apply for Global Entry.²

² Unlike in the pilot, a British citizen does not have to obtain a police certificate to present to the CBP officer at the time of the Global Entry interview.

To apply for Global Entry, the applicant will be required to complete the online application located on the GOES Web site, pay the non-refundable Global Entry fee, and satisfy all the requirements of Global Entry. During the application process, the applicant will also be required to enter the UK Access Code on the GOES Web site. If an applicant is not vetted by the United Kingdom and does not have a UK Access Code prior to applying to Global Entry, the Global Entry application will not be accepted. The applicant will be permitted to participate in Global Entry only upon successful completion of a risk assessment by CBP and completion of an interview with a CBP officer.³ CBP will notify the applicant whether or not he or she has been accepted in the Global Entry program.

³ The vetting criteria to be used by both the United Kingdom Border Agency and CBP were mutually agreed upon by both agencies and are consistent with each agency's applicable domestic laws and policies.

Applicants may be denied enrollment in the Global Entry program for various reasons. The eligibility criteria are set forth in detail in the Global Entry final rule and 8 CFR 235.12. See also http://www.globalentry.gov.

U.S. Citizens' Participation in Registered Traveller

Certain U.S. citizens who are 18 years of age or older have the option to enroll in Registered Traveller, a registered traveler program in the United Kingdom that provides expedited entry into the country via ePassport gates at border control. An ePassport is required for Registered Traveller for use at these ePassport gates. A U.S. citizen does not have to be a member of a CBP trusted traveler program to apply for Registered Traveller. However, a U.S. citizen must meet specific visa and/or travel qualifications to be eligible to apply for Registered Traveller.

Eligible U.S. applicants may apply for Registered Traveller on the United Kingdom Web site. U.S. applicants must register for Registered Traveller directly with the British Government and undergo a background check. There is a fee associated with Registered Traveller. The applicant will be notified by the United Kingdom about whether he or she is approved for Registered Traveller. More information about Registered Traveller, including the eligibility criteria and how to apply, is available at www.gov.uk.

Dated: July 6, 2016.
Todd C. Owen,
Executive Assistant Commissioner, Office of Field Operations.

[FR Doc. 2016-16435 Filed 7-11-16; 8:45 am]

BILLING CODE 9111-14-P